DEPARTMENT OF LABOR

Employment and Training Administration

20 CFR Parts 617, 618, 665, and 671

RIN 1205-AB32 and 1205-AB40

Withdrawal of Certain Proposed Rules for Trade Adjustment Assistance

AGENCY: Employment and Training Administration, Labor.

ACTION: Notice of withdrawal.

SUMMARY: The Employment and Training Administration (ETA) of the Department of Labor (Department) announces the withdrawal of two notices of proposed rulemaking (NPRMs) on the Trade Adjustment Assistance for Workers (TAA) and Alternative Trade Adjustment Assistance for Older Workers (ATAA) programs under the Trade Act of 1974, as amended (Trade Act). These proposed rules are withdrawn because the American Recovery and Reinvestment Act of 2009, commonly known as the Recovery Act, significantly amended the authorizing legislation, superseding the two NPRMs.

DATES: The proposed rules identified in this document are withdrawn as of June 9, 2009.

FOR FURTHER INFORMATION CONTACT: Erica Cantor, Administrator, Office of National Response, ETA, U.S. Department of Labor, 200 Constitution Avenue, NW., Room C-5311, Washington, DC 20210. Telephone: (202)-693-3560 (voice) (this is not a toll-free number); individuals with hearing or speech impairments may access the telephone number via TTY by calling the toll-free Federal Information Relay Service at 1-800-877-8339.

SUPPLEMENTARY INFORMATION: The TAA program, under chapter 2 of title II of the Trade Act, provides adjustment assistance (including training, income support, and job search and relocation allowances) for workers adversely affected by international trade. The Trade Adjustment Assistance Reform Act of 2002 (the Reform Act), Public Law 107-210, reauthorized the TAA program, making significant amendments, including the addition of a health care tax credit (helping workers pay for qualifying health insurance) and ATAA, providing a wage supplement option for older workers.

The Department proceeded to implement the Reform Act through three separate rulemakings. On August 25, 2006, the Department published an NPRM covering TAA program benefits and administration (TAA NPRM) (71 FR 50760). On October 18, 2006, the Department published an NPRM covering the new ATAA program (ATAA NPRM) (71 FR 61618). A planned third rulemaking covering petitions for certification of eligibility to apply for program benefits was not published (RIN 1205-AB44). Subsequently, Congress passed the Continuing Appropriations Resolution, 2007 (Pub. L. 110-5) and the Consolidated Appropriations Act, 2008 (Pub. L. 110-161), that prohibited the Department from finalizing or implementing these proposed regulations.

On February 17, 2009, President Obama signed the Recovery Act, Public Law 111-5, which includes the Trade and Globalization Adjustment Assistance Act of 2009 (TGAAA). The TGAAA reauthorized and substantially amended the TAA program, broadening program coverage, expanding benefits, providing employment and case management services, and replacing the ATAA program with the Retraining Adjustment Assistance program.

Because the substantial amendments made by the TGAAA rendered the two 2006 NPRMs obsolete, they are withdrawn. The Department intends to implement the TGAAA through rulemakings, and interested parties will be invited to submit comments on those proposed rules when they publish.

Signed: at Washington, DC this 29th day of May 2009.
Douglas F. Small,
Deputy Assistant Secretary, Employment and Training Administration, Labor.

[FR Doc. E9-13352 Filed 6-8-09; 8:45 am]

BILLING CODE 4510-FN-P